DEPARTMENT OF TRANSPORTATION

National Highway Traffic Safety Administration

49 CFR Part 572

[Docket No. NHTSA-2019-0023]

RIN 2127-AM13

Anthropomorphic Test Devices, HIII 5th Percentile Female Test Dummy; Incorporation by Reference

AGENCY: National Highway Traffic Safety Administration (NHTSA), Department of Transportation (DOT).

ACTION: Re-opening of comment period; availability of technical document.

SUMMARY: In response to a request from the public, NHTSA is re-opening the comment period on a Notice of Proposed Rulemaking (NPRM) issued in December 2019 for an additional 60 days. With this extension, the comment period will re-open today and close on August 3, 2020. NHTSA is also docketing a document describing procedures it has developed to measure SAE chest jackets already in use in the field in order to assess the uniformity of the jackets and to determine jacket dimensions and tolerances to be specified in the Final Rule.

DATES: You should submit your comments early enough to be received not later than August 3, 2020.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE, Washington, DC 20590.

• Hand Delivery or Courier: West Building, Ground Floor, Room W12-140, 1200 New Jersey Avenue, SE, between 9 a.m. and 5 p.m. Eastern Time, Monday through Friday, except Federal holidays. To be sure someone is there to help you, please call (202) 366-9322 before coming.

• You may also call the Docket at 202-366-9826.

Regardless of how you submit your comments, please mention the docket number of this document.

Instructions: For detailed instructions on submitting comments and additional information on the rulemaking process, see the Public Participation heading of the Supplementary Information section of this document. Note: all comments received, including any personal information provided, will be posted without change to http://www.regulations.gov.

Privacy Act: Anyone is able to search the electronic form of all comments received in any of our dockets by the name of the individual submitting the comment (or signing the comment, if submitted on behalf of an association, business, labor union, etc.). You may review DOT's complete Privacy Act Statement in the Federal Register published on April 11, 2000 (65 FR 19477-78).

Confidential Business Information: If you wish to submit any information under a claim of confidentiality, you should submit three copies of your complete submission, including the information you claim to be confidential business information, to the Chief Counsel, NHTSA, at the address given under FOR FURTHER INFORMATION CONTACT. In addition, you should submit two copies, from which you have deleted the claimed confidential business information, to the Docket at the address given above. When you send a comment containing information claimed to be confidential business information, you should include a cover letter setting forth the information specified in our confidential business information regulation (49 CFR part 512).

FOR FURTHER INFORMATION CONTACT: For technical issues, you may contact Mr. Peter G. Martin, Office of Crashworthiness Standards (telephone: 202-366-5668). For legal issues, you may contact Mr. John Piazza, Office of Chief Counsel (telephone: 202-366-2992) (fax: 202-366-3820). Address: National Highway Traffic Safety Administration, U.S. Department of Transportation, 1200 New Jersey Avenue SE, West Building, Washington, DC 20590.

SUPPLEMENTARY INFORMATION:

I. Re-Opening of the Comment Period

On December 26, 2019, NHTSA published a NPRM (84 FR 70916) to revise the chest jacket and spine box specifications for the Hybrid III 5th Percentile Female Test Dummy (HIII-5F) set forth in Part 572, Anthropomorphic Test Devices. NHTSA proposed to adopt the jacket specifications described in SAE J2921, as well as several additional specifications for the jacket's contour that are not contained in SAE J2921. The NPRM comment period closed on February 24, 2020. Humanetics has requested a ninety-day extension to the NPRM comment period in order to collect data regarding the proposed additional chest jacket specifications while also ensuring a sufficient sample size. This request can be found in the docket for this rulemaking.¹

¹ NHTSA-2019-0023-0004.

NHTSA has considered Humanetics' request and believes that re-opening the comment period for 60 days appropriately balances NHTSA's interest in providing the public with sufficient time to comment on the notice with its interest in completing this rulemaking in a timely manner. Accordingly, we are re-opening the comment period on the NPRM for an additional 60 days.

II. Availability of Technical Document

The NPRM proposed chest jacket dimensions and tolerances. Separate sets of dimensions and tolerances were proposed for the unworn jacket (on a table top) and the jacket as worn by an actual HIII-5F dummy. The nominal dimensions and tolerances proposed in the NPRM were derived from a sample of eight SAE jackets measured by NHTSA. The “as worn” measurements were taken in combination with various HIII-5F dummies, including older units (4 built by FTSS, 1 built by Denton) and newer units (2 built by Humanetics). Measurements were carried out at two different test labs.

In the NPRM, we stated that we would continue to collect measurement data on newly purchased jackets to check whether the proposed dimensions and tolerances (including those derived from the drawings in SAE J2921 and the new section dimensions added by NHTSA) were being met by SAE jackets already in the field. We also stated that we would examine all measurement data provided to us, and explained that in the final rule we may adjust the dimensions and tolerances to assure that jackets in the field achieve an acceptable degree of conformity while still assuring a high level of uniformity.

NHTSA has developed the procedure described in the docketed document, Measurement Procedure: Chest Jacket Dimensions, Hybrid III 5th Female Test Dummy, for NHTSA staff and contractors to use in measuring SAE chest jackets, both unworn and as fitted to HIII-5F units, including new units built by Humanetics and older units built by FTSS and Denton. NHTSA will use these measurements to assess the uniformity of SAE jackets and to determine the jacket dimensions and tolerances to be specified in the Final Rule. The purpose of the procedures described in the docketed document is to ensure that these measurements are taken in a consistent manner. This measurement procedure should not be construed as a proposed requirement for conformity with Part 572 Subpart O, nor should it be construed as a configuration requirement for use of the dummy in NCAP or any FMVSS. NHTSA is docketing a copy of this document for the information of others who may wish to make similar measurements of the SAE jacket.

Public Participation

How do I prepare and submit comments?

• To ensure that your comments are correctly filed in the Docket, please include the Docket Number found in the heading of this document in your comments.

• Your comments must not be more than 15 pages long.² NHTSA established this limit to encourage you to write your primary comments in a concise fashion. However, you may attach necessary additional documents to your comments, and there is no limit on the length of the attachments.

² 49 CFR 553.21.

• If you are submitting comments electronically as a PDF (Adobe) file, NHTSA asks that the documents be submitted using the Optical Character Recognition (OCR) process, thus allowing NHTSA to search and copy certain portions of your submissions.

• Please note that pursuant to the Data Quality Act, in order for substantive data to be relied on and used by NHTSA, it must meet the information quality standards set forth in the OMB and DOT Data Quality Act guidelines. Accordingly, NHTSA encourages you to consult the guidelines in preparing your comments. DOT's guidelines may be accessed at https://www.transportation.gov/regulations/dot-information-dissemination-quality-guidelines.

Tips for Preparing Your Comments

When submitting comments, please remember to:

• Identify the rulemaking by docket number and other identifying information (subject heading, Federal Register date and page number).

• Explain why you agree or disagree, suggest alternatives, and substitute language for your requested changes.

• Describe any assumptions you make and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• To ensure that your comments are considered by the agency, make sure to submit them by the comment period deadline identified in the DATES section above.

For additional guidance on submitting effective comments, visit: https://www.regulations.gov/docs/Tips_For_Submitting_Effective_Comments.pdf.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit a copy, from which you have deleted the claimed confidential business information, to the docket at the address given above under ADDRESSES. When you send a comment containing information claimed to be confidential business information, you should include a cover letter setting forth the information specified in our confidential business information regulation. (49 CFR part 512)

Will the agency consider late comments?

We will consider all comments received before the close of business on the comment closing date indicated above under DATES. To the extent possible, we will also consider comments that the docket receives after that date. If the docket receives a comment too late for us to consider in developing a final rule (assuming that one is issued), we will consider that comment as an informal suggestion for future rulemaking action.

How can I read the comments submitted by other people?

You may read the comments received by the docket at the address given above under ADDRESSES. The hours of the docket are indicated above in the same location. To be sure someone is there to help you, please call (202) 366-9322 before coming. You may also see the comments on the internet. To read the comments on the internet, go to http://www.regulations.gov. Follow the online instructions for accessing the dockets.

Please note that even after the comment closing date, we will continue to file relevant information in the docket as it becomes available. Further, some people may submit late comments. Accordingly, we recommend that you periodically check the Docket for new material. You can arrange with the docket to be notified when others file comments in the docket. See www.regulations.gov for more information.

Issued in Washington, DC, under authority delegated in 49 CFR 1.95 and 501.4.
James Clayton Owens,
Deputy Administrator.

[FR Doc. 2020-11689 Filed 6-1-20; 8:45 am]

BILLING CODE 4910-59-P